DEPARTMENT OF TRANSPORTATION

Federal Aviation Administration

14 CFR Part 71

[Docket No. FAA-2007-28601; Airspace Docket 07-AEA-02]

Proposed Establishment of Class D and E Airspace, Proposed Revision of Class E Airspace; Easton, MD

AGENCY: Federal Aviation Administration (FAA), DOT.

ACTION: Notice of proposed rulemaking.

SUMMARY: This action proposes to establish Class D, E2 and E4 airspace and revise E5 airspace at Easton, MD. A federal contract tower with a weather reporting system is being constructed at Easton Airport/Newnam Field. Therefore, the airport will meet criteria for Class D, E2, and E4 surface area airspace. Class D surface area airspace and Class E4 airspace designed as an extension to Class D airspace is required when the control tower is open to contain Standard Instrument Approach Procedures (SIAPs) and other Instrument Flight Rules (IFR) operations at the airport. Class E2 surface area airspace is required when the control tower is closed to contain SIAPs and other IFR operations at the airport. This action would establish Class D and E2 airspace extending upward from the surface to and including 2,600 feet MSL within a 4-mile radius of the airport and Class E4 airspace extension that is 5.4 miles wide and extends 7.4 miles northeast of the Easton Non Directional Beacon (NDB). Additionally, a technical revision to Class E5 airspace is required as a result of a name change from the Easton Municipal Airport to Easton Airport/Newnam Field, which was effective May 25, 1993.

DATES: Comments must be received on or before October 22, 2007.

ADDRESSES: Send comments on this proposal to the Docket Management System, U.S. Department of Transportation, Docket Operations, M-30, 1200 New Jersey Avenue, SE., West Building, Ground Floor, Room W12-140, Washington, DC 20590; Telephone: 1-800-647-5527. You must identify the docket number FAA-2007-28601; Airspace Docket No. 07-AEA-02, at the beginning of your comments. You may also submit comments on the Internet at http://dms.dot.gov. You may review the public docket containing the proposal, any comments received, and any final disposition in person in the Dockets Office (see ADDRESSES section for address and phone number) between 9 a.m. and 5 p.m., Monday through Friday, except Federal holidays.

An informal docket may also be examined during normal business hours at the office of the Eastern Service Center, Federal Aviation Administration, Room C210, 1701 Columbia Avenue, College Park, Georgia 30337.

FOR FURTHER INFORMATION CONTACT: Mark D. Ward, Manager, System Support Group, Eastern Service Center, Federal Aviation Administration. P.O. Box 20636, Atlanta, Georgia 30320; telephone (404) 305-5581.

SUPPLEMENTARY INFORMATION:

Comments Invited

Interested parties are invited to participate in this proposed rulemaking by submitting such written data, views or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2007-28601; Airspace Docket No. 07-AEA-02.” The postcard will be date/time stamped and returned to the commenter. All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://dms.dot.gov. Recently published rulemaking documents can also be accessed through the FAA's Web page at http://www.faa.gov or the Federal Register Web page at http://www.gpoaccess.gov/fr/index.html. Persons interested in being placed on mailing list for future NPRM's should contact the FAA's Office of Rulemaking, (202) 267-9677, to request a copy of Advisory Circular No. 11-2A, Notice of Proposed Rulemaking Distribution System, which describes the application procedure.

The Proposal

The FAA is considering an amendment to Title 14 Code of Federal Regulations, part 71 to establish Class D, E2, and E4 airspace and revise Class E5 airspace at Easton, MD. Class D and E2 Airspace Designations for Airspace Areas extending upward from the surface of the Earth, Class E4 Airspace Areas Designated as an Extension to a Class D Surface Area and Class E5 Airspace Areas extending upward from 700 feet ore more above the surface of the Earth are published in Paragraphs 5000, 6002, 6004 and 6005 respectively of FAA Order 7400.9P, dated September 1, 2006, and effective September 15, 2006, which is incorporated by reference in 14 CFR 71.1 The Class D, E2, E4 and E5 airspace designations listed in this document would be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

Paragraph 5000 Class D Airspace.

* * * * *

AEA MD D Easton, MD [NEW]

Easton Airport/Newnam Field, MD

(Lat. 38°48′15″ N., long. 76°04′08″ W.)

That airspace extending upward from the surface to and including 2,600 feet MSL within a 4-mile radius of the Easton Airport/Newnam Field. This Class D airspace area is effective during the specific days and times established in advance by a Notice to Airmen. The effective days and times will thereafter be continuously published in the Airport/Facility Directory.

* * * * *

Paragraph 6002 Class E Airspace Designated as Surface Areas.

* * * * *

AEA MD E2 Easton, MD [NEW]

Easton Airport/Newman Field, MD

(Lat. 38°48′15″ N., long. 76°04′08″ W.)

Easton NDB

(Lat. 38°48′17″ N., long. 76°04′10″ W.)

That airspace extending upward from the surface to and including 2,600 feet MSL within a 4-mile radius of the Easton Airport/Newman Field and that airspace within 2.7 miles each side of the 038° bearing from the Easton NDB extending from the 4-mile radius of the Easton Airport/Newman Field to 7.4 miles northeast of the NDB. This Class E airspace area is effective during the specific days and times established in advance by a Notice to Airmen. The effective days and times will thereafter be continuously published in the Airport/Facility Directory.

* * * * *

Paragraph 604 Class E Airspace Areas Designated as an Extension to a Class D Surface Area.

* * * * *

AEA MD E4 Easton, MD [NEW]

Easton Airport/Newman Field, MD

(Lat. 38°48′15″ N., long. 76°04′08″ W.)

Easton NDB

(Lat. 38°48′17″ N., long. 76°04′10″ W.)

That airspace extending upward from the surface within 2.7 miles each side of the 038° bearing from the Easton NDB extending from the 4-mile radius of the Easton Airport/Newman Field to 7.4 miles northeast of the NDB.

* * * * *

Paragraph 6005 Class E Airspace Areas Extending Upward From 700 feet or More Above the Surface of the Earth.

* * * * *

AEA MD E5 Easton, MD [REVISED]

Easton Airport/Newman Field, MD

(Lat. 38°48′15″ N., long. 76°04′08″ W.)

Easton NDB

(Lat. 38°48′17″ N., long. 76°04′10″ W.)

That airspace extending upward from 700 feet above the surface within a 6.7-mile radius of the Easton Airport/Newman Field and within 2.7 miles each side of the 038° bearing from the Easton NDB extending from the 6.7-mile radius to 7.4 miles northeast of the NDB.

Issued in College Park, Georgia, on August 8, 2007.
Kathy Kutch,
Acting Manager, System Support Group Eastern Service Center.

[FR Doc. 07-4330 Filed 9-5-07; 8:45 am]

BILLING CODE 4910-13-M